DEPARTMENT OF ENERGY

Federal Energy Regulatory Commission

[Project Nos.477-024]

Notice of Intent To Prepare an Environmental Impact Statement and Soliciting Additional Scoping Comments

March 26, 2003.

Take notice that the following hydroelectric applications have been filed with Commission and are available for public inspection:

a. Application Type: Amendment of License, Surrender of License, Settlement Agreement and Decommissioning Plan.

b. Project No.: 477-024.

c. Date Filed: November 12, 2002.

d. Applicant: Portland General Electric Company (PGE).

e. Name of Project: Bull Run Hydroelectric Project.

f. Location: On the Sandy, Little Sandy, and Bull Run Rivers, near the Town of Sandy, Clackamas County, Oregon. The project is located on lands administered by the Forest Service (Mt. Hood National Forest) and the Bureau of Land Management.

g. Filed Pursuant to: Federal Power Act, 16 U.S.C. 791(a)-825(r); Rule 602 of the Commission's Rules of Practice and Procedure, 18 CFR 385.602.

h. Applicant Contact: Julie A. Keil, Director, Hydro Licensing and Water Rights, PGE, 121 SW Salmon Street, Portland, Oregon 97204, 503-464-8864.

i. FERC Contact: Alan Mitchnick, 202-502-6074; alan.mitchnick@ferc.gov.

j. Deadline for filing additional scoping comments: 30 days from date of this notice.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site ( http://www.ferc.gov ) under the “e-Filing” link.

k. Amendment Application: PGE proposes to: (i) Extend the term of the license from November 16, 2004, to November 16, 2017; (ii) continue generation until removal of the Little Sandy dam in 2008; (iii) implement a program of geomorphological and water quality monitoring continuing until Marmot dam removal; (iv) continue operation of the fish ladder and sorting facility at Marmot dam until Marmot dam removal; and (v) modify the operation of the diversion canal at Marmot dam to provide protection of threatened fish species from November 2004 until November 2007.

Surrender Application: The Project works include: Marmot dam, located at River Mile (RM) 30 on the Sandy River; a 3.1-mile-long series of canals and tunnels leading from Marmot dam to the Little Sandy River just upstream of the Little Sandy diversion dam; the Little Sandy diversion dam, located at RM 1.7 on the Little Sandy River; a 2.8-mile-long box flume leading from the Little Sandy diversion dam to the manmade forebay, Roslyn Lake; two 1,200 foot penstocks; and a powerhouse containing four generators with a total capacity of 22 megawatts. The powerhouse discharges to the Bull Run River 1.5 miles above its confluence with the Sandy River at RM 18.4.

PGE proposes the complete removal of both Marmot and the Little Sandy diversion dams, starting in 2007, along with the dismantling of their associated water conveyance structures. In addition, Roslyn Lake would be drained, the powerhouse generating equipment would be disabled, and the powerhouse structure would be demolished. All PGE-owned lands within the existing project boundary would be conveyed to the Western Rivers Conservancy once the license is surrendered and the project is removed, and used to protect and conserve fish and wildlife habitat, public access, and recreation opportunities in the Sandy River Basin. Project water rights would be relinquished and would revert to instream use.

l. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item g above.

m. Scoping Process; The Commission intends to prepare an Environmental Impact Statement (EIS) on the project in accordance with the National Environmental Policy Act. The EIS will consider both site-specific and cumulative environmental impacts and reasonable alternatives to the proposed action.

PGE and Commission staff conducted scoping prior to PGE's preparation of a draft environmental assessment that was filed with the Commission as part of the surrender application. Scoping document 1 was issued on July 30, 1999, and scoping document 2 was issued on November 4, 1999. Scoping meetings were held on September 1, 1999. We are requesting comments on any additional issues or alternatives that should be analyzed in the EIS.

Magalie R. Salas,
Secretary.

[FR Doc. 03-7868 Filed 4-1-03; 8:45 am]

BILLING CODE 6717-01-P